DEPARTMENT OF JUSTICE

[Docket No. OLP182]

Request for Information on State Laws Having Significant Adverse Effects on the National Economy or Significant Adverse Effects on Interstate Commerce

AGENCY: Department of Justice.

ACTION: Request for information.

SUMMARY: The Department of Justice is soliciting public comments on State laws significantly and adversely affecting the national economy or interstate commerce along with suggested solutions that could address such effects.

DATES: Electronic comments must be submitted, and written comments must be postmarked, on or before September 15, 2025.

ADDRESSES: You may submit comments, identified by Docket No. OLP182 through the Federal eRulemaking Portal: https://www.regulations.gov. Follow the instructions for submitting comments.

• Postal Mail or Commercial Delivery: If you do not have internet access or electronic submission is not possible, you may send written comments to Docket Clerk, Office of Legal Policy, U.S. Department of Justice, 950 Pennsylvania Ave. NW, Washington, DC 20530. To ensure proper handling, please reference Docket No. OAG182 on your correspondence.

• Privacy Note: The Department of Justice general policy is to make all comments received from members of the public available for public viewing in their entirety on the Federal eRulemaking Portal at http://www.regulations.gov. Therefore, commenters should be careful to include in their comments only information that they wish to make publicly available.

SUPPLEMENTARY INFORMATION: From his first day in office, President Trump and his Administration have prioritized eliminating the “crushing regulatory burden” that has “made necessary goods and services scarce.” Memorandum on Delivering Emergency Price Relief for American Families and Defeating the Cost-of-Living Crisis, 90 FR 8245 (Jan. 20, 2025). Deregulatory efforts will boost the American economy, relieve Americans of undue burdens, and make America affordable and energy dominant again. President Trump issued multiple Executive Orders to advance his deregulatory agenda and requiring the Executive Branch to put that policy into action. On January 31, 2025, President Trump signed Executive Order 14192 (“Unleashing Prosperity Through Deregulation”), 90 FR 9065 (Jan. 31, 2025), declaring “the policy of the executive branch” to be that Federal agencies should “alleviate unnecessary regulatory burdens placed on the American people.”

Consistent with this policy, on February 19, 2025, President Trump signed Executive Order 14219 (“Ensuring Lawful Governance and Implementing the President's `Department of Government Efficiency' Deregulatory Initiative”), 90 FR 10583 (Feb. 19, 2025), directing agencies to “initiate a process to review all regulations” and identify regulations that, among other things, “impose undue burdens on small businesses and impede private enterprise and entrepreneurship.” He also signed Executive Orders aimed at unleashing American Energy, E.O. 14270, 90 FR 15643 (Apr. 9, 2025) (“Zero-Based Regulatory Budgeting to Unleash American Energy”), rolling back Obama-era regulations micro-managing Americans' showers, E.O. 14264, 90 FR 15619 (Apr. 9, 2025) (“Maintaining Acceptable Water Pressure in Showerheads”), and tackling anti-competitive rules, E.O. 14267, 90 FR 15629 (“Reducing Anti-Competitive Regulatory Barriers”) (Apr. 9, 2025).

However, Federal regulatory burdens are only part of the story. As President Trump also recognized, in Executive Order 14260 (“Protecting American Energy from State Overreach”), 90 FR 15513 (Apr. 8, 2025), State-level practices can drive up nationwide costs and undermine American safety and “undermine Federalism by projecting the regulatory preferences of a few States into all States.” Anecdotal evidence and the experience of countless Americans across the country strongly suggest that State laws and regulations can significantly burden commerce in other States and between States, thus raising costs unnecessarily and harming markets nationwide.

Request for Information

The Department of Justice is publishing this Request for Information (“RFI”) on behalf of the Administration as a whole. Accordingly, comments may address matters within the purview of any Executive Branch agency.

The public is invited to provide input to aid the Administration's efforts as set forth in the above-cited Executive Orders and elsewhere to alleviate unnecessary regulatory burdens and costs imposed on the American people.

This RFI seeks information pertaining to State laws, regulations, causes of action, policies, and practices (collectively, State laws) that adversely affect interstate commerce and business activities in other States.

In particular, comments are invited on:

• Which State laws significantly burden commerce in other States and between States, thus raising costs unnecessarily and harming markets nationwide.

• Whether the laws identified may be preempted by existing Federal authority and, if so, what authority.

• Whether there may be Federal legislative or regulatory means for addressing the State laws identified or the burdens they cause.

• Which Federal agency has the subject-matter expertise to address concerns lawfully within the Federal government's authority.

Several other initiatives are currently underway to identify Federal regulations for possible streamlining. Commenters interested in identifying problematic Federal regulations may visit https://www.regulations.gov, which has a “Submit Your Deregulatory Recommendations” section on its homepage.

Dated: August 13, 2025.
Nicholas J. Schilling, Jr.,
Supervisory Official, Office of Legal Policy.

[FR Doc. 2025-15604 Filed 8-14-25; 8:45 am]

BILLING CODE 4410-BB-P